DEPARTMENT OF HEALTH AND HUMAN SERVICES

Administration for Children and Families

ACF/OCS; Notice of Correction for the Office of Community Services Community Economic Development (CED) Administration and Management Expertise Program

AGENCY: Office of Community Services, ACF, HHS.

ACTION: Notice of correction.

Funding Opportunity Title: Community Services Block Grant Community Economic Development Discretionary Grant Program—Administration and Management Expertise Priority Area.

Funding Opportunity Number: HHS-2004-ACF-OCS-EC-0017.

SUMMARY: This notice is to inform interested parties of corrections made to the Community Services Block Grant Community Economic Development Discretionary Grant Program-Training and Technical Assistance program announcement. The announcement published on April 30, 2004. The following corrections should be noted:

(1) Under IV. 3 Submission Date and Times, after the “Required Forms” chart, please insert the following:

Additional Forms: Private-non-profit organizations are encouraged to submit with their applications the additional survey located under “Grant Related Documents and Forms” titled “Survey for Private, Non-Profit Grant Applicants”.

What to submit | Required content | Required form or format | When to submit
Survey for Private, Non-Profit Grant Applications | Per required form | May be found on http://www.acf.hhs.gov/programs/ofs/form.htm | By application due date.

(2) Under Part VII. Agency Contacts, the telephone number (202) 401-2344 for Barbara Zeigler-Johnson should be deleted and replaced with (202) 401-4646.

(3) Under Part VII. Agency Contacts, the e-mail address bziegler-johns@acf.hhs.gov for Barbara Zeigler Johnson should be deleted and replaced with bziegler-johns1@acf.hhs.gov.

The only changes to the Community Services Block Grant Community Economic Development Discretionary are explicitly stated in this Notice of Correction. All applications must still be sent on or before the deadline date specified in the original announcement. Applications must be mailed or delivered to:

U.S. Department of Health and Human Services (HHS), Administration for Children and Families, Office of Community Services Operations Center, 1815 Fort Myer Drive, Suite 300, Arlington, Virginia 22209, Attention: Operations Center.

For further information please contact Deborah Brown, Office of Community Services Program Specialist, at (202) 401-3446 or e-mail at dbrown@acf.hhs.gov.

Dated: May 10, 2004.
Clarence Carter,
Director, Office of Community Services.

[FR Doc. 04-10965 Filed 5-13-04; 8:45 am]

BILLING CODE 4184-01-P